SMALL BUSINESS ADMINISTRATION

Notice Seeking Exemption Under Section 312 of the Small Business Investment Act, Conflicts of Interest

Notice is hereby given that TD Lighthouse Capital Fund, L.P. (“TD Lighthouse”), 303 Detroit Street, Suite 301, Ann Arbor, Michigan 48104, and TD Origin Capital Fund, L.P. (“TD Origin”), 150 Washington Avenue, Santa Fe, New Mexico, Federal Licensees under the Small Business Investment Act of 1958, as amended (“the Act”), in connection with the financing of a small concern, has sought an exemption under section 312 of the Act and section 107.730, Financings which Constitute Conflicts of Interest, of the Small Business Administration (“SBA”) rules and regulations (13 CFR 107.730 (2002)). TD Lighthouse and TD Origin propose to provide equity financing to LivHome, Inc. (“LivHome”), 5900 Wilshire Boulevard, Suite 705, Los Angeles, California 90036. The financing is contemplated for market expansion and working capital.

The financing is brought within the purview of Section 107.730(a)(1) of the Regulations because Tullis Dickerson Capital Focus II, L.P. and TD Javelin Capital Fund II, L.P., Associates of both TD Lighthouse and TD Origin, currently and collectively own greater than 10 percent of LivHome, and therefore LivHome is considered an Associate of TD Lighthouse and TD Origin as defined in Section 107.50 of the Regulations.

Notice is hereby given that any interested person may submit written comments on the transaction to the Associate Administrator for Investment, U.S. Small Business Administration, 409 Third Street, SW, Washington, DC 20416.

Dated: March 19, 2002.
Harry Haskins,
Acting Associate Administrator for Investment.

[FR Doc. 02-7118 Filed 3-22-02; 8:45 am]

BILLING CODE 8025-01-P